INTERNATIONAL TRADE COMMISSION

[Investigation No. 337-TA-1364]

Certain Blood Flow Restriction Devices With Rotatable Windlasses and Components Thereof; Institution of Investigation

AGENCY: International Trade Commission.

ACTION: Notice.

SUMMARY: Notice is hereby given that a complaint was filed with the U.S. International Trade Commission on April 24, 2023, under section 337 of the Tariff Act of 1930, as amended, on behalf of Composite Resources, Inc. of Rock Hill, South Carolina and North American Rescue, LLC of Greer, South Carolina. Supplements were filed on April 27, 2023, May 11, 2023, and May 18, 2023. The complaint, as supplemented, alleges violations of section 337 based upon the importation into the United States, the sale for importation, and the sale within the United States after importation of certain blood flow restriction devices with rotatable windlasses and components thereof by reason of the infringement of: certain claims of U.S. Patent No. 7,842,067 (“the '067 patent”); U.S. Patent No. 8,888,807 (“the '807 patent”); and U.S. Patent No. 10,016,203 (“the '203 patent”); and; U.S. Trademark Registration No. 3,863,064 (“the '064 mark”) and U.S. Trademark Registration No. 5,046,378 (“the '378 mark”). The complaint further alleges that an industry in the United States exists as required by the applicable Federal Statute. The complaint also alleges violations of section 337 based upon the importation into the United States, or in the sale of certain blood flow restriction devices with rotatable windlasses by reason of trade dress infringement, the threat or effect of which is to destroy or substantially injure an industry in the United States.

The complainants request that the Commission institute an investigation and, after the investigation, issue a general exclusion order, or in the alternative a limited exclusion order, and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2023).

Scope of Investigation: Having considered the complaint, the U.S. International Trade Commission, on May 24, 2023, Ordered that—

(1) Pursuant to subsection (b) of section 337 of the Tariff Act of 1930, as amended,

(a) an investigation be instituted to determine whether there is a violation of subsection (a)(1)(A) of section 337 in the importation or sale of certain products identified in paragraph (2) by reason of trade dress infringement, the threat or effect of which is to destroy or substantially injure an industry in the United States;

(b) an investigation be instituted to determine whether there is a violation of subsection (a)(1)(B) of section 337 in the importation into the United States, the sale for importation, or the sale within the United States after importation of certain products identified in paragraph (2) by reason of infringement of one or more of claims 1-17 of the '067 patent; claims 1-30 of the '807 patent; and claims 1-13 of the '203 patent, and whether an industry in the United States exists as required by subsection (a)(2) of section 337;

(c) an investigation be instituted to determine whether there is a violation of subsection (a)(1)(C) of section 337 in the importation into the United States, the sale for importation, or the sale within the United States after importation of certain products identified in paragraph (2) by reason of infringement of the '064 mark and the '378 mark, and whether an industry in the United States exists as required by subsection (a)(2) of section 337;

(2) Pursuant to section 210.10(b)(1) of the Commission's Rules of Practice and Procedure, 19 CFR 210.10(b)(1), the plain language description of the accused products or category of accused products, which defines the scope of the investigation, is “single-handed combat tourniquets with rotatable windlasses that can be applied and tightened by a user to reduce blood loss from an arm or leg”;

(3) For the purpose of the investigation so instituted, the following are hereby named as parties upon which this notice of investigation shall be served:

(a) The complainants are:

Composite Resources, Inc., 483 Lakeshore Pkwy, Rock Hill, SC 29730

North American Rescue, LLC, 35 Tedwall Ct., Greer, SC 29650

(b) The respondents are the following entities alleged to be in violation of section 337, and are the parties upon which the complaint is to be served:

Anping Longji Medical Equipment Factory, No. 8, Suxin Road, Nansu Village, Anping, County, Hengshui City, Hebei Province, China

Chaozhou Jiduo Trading Co., Ltd., Shop No. 35, No. 2 Comm., Xianhe Vil., Phixi, Town, Xiangqiao District, Chaozhou City 521000, China

Dongguan Hongsui Electronic Commerce, Co., Ltd., No. 7, Lane 6, Orchard, Houjie, Dongguan City, Houjie Town, Guangdong Province, 523000, China

Dongguanwin Si Hai Precision Mold Co., Ltd., X No. 66 Jinrong Rd. Juhe Sq., Changan, Dongguan, China

Eiffel Medical Supplies Co., Ltd. 1st-3rd Floor, No. 8 Building, Run-Tang Industry Park, Shenzhen, Guangdong, 518128, China

Empire State Distributors Inc., 2975 West 33rd Street, Brooklyn, New York 11224

EMRN Medical Equipment, 295 Av. Lafleur, LaSalle, QC H8R 3H5, Canada

Express Companies, Inc., 2603 Industry St., Oceanside, CA 92054

Fuzhou Meirun Medical Equipment Technology Co., Ltd. Baiyue Cultural Village, Hecheng Town, Zixi, County Fuzhou, Jiangxi 344000, China

GD Tianwu New Material Tech Co., Ltd., 7 Xi'an Road, Zini Village, Shawan Town, Panyu District, Guangzhou, China

Henan Eyocean E-Commerce Co., Ltd., Incubation Park, No.6, Yingcai Street, Huiji District, Zhengzhou, Henan, 450044, China

Hengshui Runde Medical Instruments Co., Ltd., Xuzhangtun Village, Anping County, Hengshui City, Hebei Province, China

Huang Xia, No. 09, 2nd Villager Group, New Countryside, Sangzi Town, Xinhua County, Hunan 417600, China

Jingcai Jiang, Mingkan Huayuan C4/102 Bao'an District, Shenzhen, GuangDong, 518030, China

Putian Dima Trading Co., Ltd., No. 99, Xiake Natural Village, Aoshan, Village, Sanjiangkou Town, Putian City, Hanjiang District, Fujian Province, 351100, China

Rhino Inc., 16192 Coastal Hwy, Lewes, DE 19958

Shanghai Sixu International Freight Agent Co., Ltd., A6, No. 258, Fangdong Road, Jiuting, Songjiang District, Shanghai 201600, China

Shen Yi, Room 2201, Building 15, Changcheng building, Futian District, Shenzhen, Guangdong 518000, China

Shenzhen Anben E-Commerce Co., Ltd., No. 23, Xinpu Rd., Pupai Village, Longcheng St., Longgang Dist., Shenzhen 518000, China

Shenzhen Janxle E E Commerce Co., Ltd., Room 201 No. 16 Second Area Horsehoe, Mountain Bantian Street, Longang, Shenzhen, China

Shenzhen Smart Medical Co. Ltd., 4th Floor, C Building, ZhenHan Industrial Zone, GanKeng, BuJi, LongGang District, Shenzhen, China

Shenzhen TMI Medical Supplies Co., Ltd., 4F, Bldg. 1, Area 2, HuangMaBu Industrial District, XiXiang, Bao'an District, Shenzhen 518101, China

Shenzhen Yujie Commercial and Trading Co., Ltd. , 29th Floor, Nanguang Jiejia Building, Shennan Road, Futian District, Shenzhen, China

Sun Minghui, No. 241, Minzhi Avenue, Minxin Community, Minzhi Street, Longhua District Mintai, Building 228, Shenzhen, Guangdong, 518000, China

SZY Holdings LLC, 300 Liberty Avenue, Brooklyn, NY 11207

Wuxi Emsrun Technology Co., Ltd., No. 100 Fengbin Road, Wuxi City, Jiangsu Province, China

Wuxi Golden Hour Medical Technology Co., Ltd., Room 101-103/105, Building 1, 58, Xiuxi Road, Binhu District, Wuxi City, Jiangsu Province 214000, China,

Wuxi Puneda Technology Co., Ltd., 306-3 Quanfeng Road, Wuxi, 214037, China

Xia Guo Long, Room 316, Fuwei Building, Hongtu Road, Dongguan City, Nancheng District, Guangdong Province, 523000, China

Yinping Yin, No. 6003 Binhe Haibin Square Garden, Mango Web Co, Shenzhen, Guangdong, 518003, China

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: May 24, 2023.
Lisa Barton,
Secretary to the Commission.

[FR Doc. 2023-11462 Filed 5-30-23; 8:45 am]

BILLING CODE 7020-02-P